EXPORT-IMPORT BANK

Sunshine Act Meeting

ACTION: Notice of an Open Meeting of the Board of Directors of the Export-Import Bank of the United States. This notice replaces the notice of the partially open meeting of April 10, 2014 which has subsequently been cancelled.

TIME AND PLACE: Thursday, April 10, 2014 at 9:30 a.m. The meeting will be held at Ex-Im Bank in Room 321, 811 Vermont Avenue NW., Washington, DC 20571.

OPEN AGENDA ITEM: Item No. 1: Content Review Initiatives: Services Policy, Annual Content Certification and Co-financing.

PUBLIC PARTICIPATION: The meeting will be open to public observation for Item No. 1 only.

FURTHER INFORMATION: Members of the public who wish to attend the meeting should call Joyce Stone, Office of the Secretary, 811 Vermont Avenue NW., Washington, DC 20571, (202) 565-3336 by close of business Tuesday, April 8, 2014.

Cristopolis Dieguez,
Program Management Analyst.

[FR Doc. 2014-07389 Filed 3-28-14; 4:15 pm]

BILLING CODE 6690-01-P